DEPARTMENT OF AGRICULTURE

Forest Service

Rogue River-Siskiyou National Forest, Oregon; Motorized Vehicle Use on the Rogue River-Siskiyou National Forest; Intent to Prepare a Supplemental Environmental Impact Statement (SEIS) To Augment, Clarify, Analyze and Disclose the Potential Environmental Effects of Establishing and Designating a System of Roads, Trails and Areas for Wheeled Motorized Vehicles

AGENCY: Forest Service, USDA.

ACTION: Notice.

SUMMARY: The Proposed Action would designate the location, type of vehicle and season of use for motorized vehicles across the entire Forest in order to meet the intent of the Travel Management; Designated Routes and Areas for Motor Vehicle Use, Final Rule that was published on November 9, 2005 (70 FR 216). Over-the-snow vehicles are excluded from this Proposed Action. A Forest Plan Amendment would be required to achieve the purpose and need, and implement the Proposed Action.

DATES: Under 40 CFR 1502.9(c)(4), there is no formal scoping period for this action. The Draft Supplemental Environmental Impact Statement (SEIS) is expected in October 2010 and the Final Supplemental Environmental Impact Statement is expected in March 2011.

ADDRESSES: Send electronic comments to: comments-pacificnorthwest-rogueriver-siskiyou@fs.fed.us. Send written comments to: Pam Olson, Rogue River-Siskiyou National Forest, 3040 Biddle Road, Medford, OR 97504.

FOR FURTHER INFORMATION CONTACT: Pam Olson, Rogue River-Siskiyou National Forest, 3040 Biddle Road, Medford, Oregon 97504, Telephone (541) 618-2126; FAX (541) 618-2149.

Background

On November 9, 2005, the Forest Service published final travel management regulations in the Federal Register (FR Vol. 70, No. 216—Nov. 9, 2005, pp 68264-68291). This final Travel Management Rule requires designation of those roads, trails, and areas that are open to motor vehicle use by the public on National Forests. Designations will be made by class of vehicle and, if appropriate, by time of year. The final rule prohibits the use of motor vehicles by the public off the designated system as well as use of motor vehicles on routes and in areas that are not designated. Persons exempt from the final rule prohibitions would be those with a permit specifically authorizing access. Examples include access to private property, a mining claim or a communication site.

In June 2007, the Forest hosted a series of four open houses in southwest Oregon to provide people an opportunity to learn more about the Travel Analysis process, and, in addition, Forest representatives met with a number of individuals, groups and neighboring land management agencies to gather information for the project.

The Forest completed an inventory of existing open roads and trails. Currently, there are approximately 4,620 road miles and approximately 1,155 trail miles. Motorized trails account for approximately 15% (170 miles) of the total trail miles.

Under the Proposed Action, roads, trails and areas that are currently part of the Forest transportation system and are open to wheeled motorized vehicle travel would remain designated for such use except as described below. The Proposed Action is being carried forward in accordance with the Travel Management Rule (36 CFR Part 212). The Draft Environmental Impact Statement (DEIS) for Motorized Vehicle Use on the Rogue River-Siskiyou National Forest was released in March 2009, with the comment period ending May 11, 2009. In December 2009, the Final Environmental Impact Statement was released, and the Record of Decision was signed on December 3, 2009. Appeals were received, and there were issues that were determined to require clarification and supplementation of the previous analysis. The Record of Decision was withdrawn in April 2010 so that those issues could be addressed within a supplemental document.

Following a decision on the FSEIS, the Forest will publish a Motor Vehicle Use Map (MVUM) identifying all Forest roads, trails and areas that are designated open for motor vehicle use by the public. The MVUM shall specify the classes of vehicles and, if appropriate, the times of year for which use is authorized. It will be updated and published annually (or more frequently if needed) when changes to the Forest's transportation system are made. Future decisions associated with changes to the MVUM may trigger the need for documentation of additional environmental analysis.

Purpose and Need

The purpose for action is to enact the Travel Management Rule, which will designate roads for motorized use. Increased demand for motorized use, lack of designated areas/routes, and the inconsistent direction contained in the Forest Plans have led to the need to reduce resource damage and social impacts, user conflicts, and address safety concerns.

Proposed Action

Based on the stated purpose and need for action and as a result of the recent Travel Analysis process, the Forest proposes to:

• Prohibit motorized public access on approximately 60-65 miles of roads currently open in order to minimize or reduce resource damage;

• Formally designate approximately 3,390 miles of road where mixed use would be allowed. Mixed use is defined as designation of a National Forest System (NFS) road for use by both highway-legal and non-highway-legal motor vehicles;

• Construct two motorized trails to provide loop route opportunities (approximately 2 miles);

• Convert approximately 20-25 miles of NFS roads to motorized trails;

• Designate two areas where off-road motorized use is allowed. This includes continued use of the Woodruff area near Prospect and the development of an additional area near Willow Lake. Both areas are located on the High Cascades Ranger District; and

• Enact Forest Plan amendments to make both plans consistent with the Travel Management Rule. The Rogue River-Siskiyou National Forest is guided by two separate Forest Plans.

Maps illustrating the Proposed Action can found at: http://www.fs.fed.us/r6/rogue-siskiyou/projects/travel/.

In addition, maps will be available for viewing at:

Forest Supervisor's Office, 3040 Biddle Road, Medford, OR 97504.

Gold Beach Ranger District, 29279 Ellensburg Ave. Gold Beach, OR 97444 or 539 Chetco Ave, Brookings, OR 97415.

High Cascades Ranger District, 47201 Highway 62, Prospect, OR 97536 or 730 Laurel St., Butte Falls, OR 97522.

Powers Ranger District, 42861 Highway 242, Powers, OR 97466.

Siskiyou Mountains Ranger District, 6941 Upper Applegate Road, Jacksonville, OR 97530 or 645 Washington Street, Ashland, Oregon 97520.

Wild Rivers Ranger District, 2164 N.E. Spalding Avenue, Grants Pass, OR 97526 or 26568 Redwood Hwy., Cave Junction, OR 97523.

Responsible Official

The Forest Supervisor, Scott D. Conroy, is the Responsible Official for making the decision and providing direction for the analysis under the National Environmental Policy Act (NEPA).

Decision Framework

The Forest Service will use the results of supplemental analysis to determine if the analysis is sufficient to answer and clarify the issues raised during appeal.

Early Notice of Importance of Public Participation in Environmental Review

A Draft SEIS will be prepared for comment. Comments received on the Draft SEIS will be considered in the preparation of the Final SEIS. The Draft SEIS is now expected to be filed with the Environmental Protection Agency (EPA) and to be available for public review in October 2010. The comment period on the Draft SEIS will be 45-days from the date EPA publishes the Notice of Availability in the Federal Register. At the end of the comment period on the Draft SEIS, comments will be analyzed and considered by the Forest Service in preparing the Final SEIS. The Final SEIS is scheduled to be completed by March 2011.

Dated: July 21, 2010.
Scott D. Conroy,
Forest Supervisor.

[FR Doc. 2010-18707 Filed 7-30-10; 8:45 am]

BILLING CODE 3410-11-M